DEPARTMENT OF COMMERCE

International Trade Administration

[A-533-813]

Certain Preserved Mushrooms From India: Final Results of Antidumping Duty Administrative Review; 2014-2015

AGENCY: Enforcement and Compliance, International Trade Administration, Department of Commerce.

SUMMARY: On March 9, 2016, the Department of Commerce (the Department) published the preliminary results of the 2014-2015 administrative review of the antidumping duty order on certain preserved mushrooms from India. The review covers one manufacturer/exporter of the subject merchandise: Himalya International, Ltd. (Himalya). Based on our analysis of the comments received, as well as our findings at verification, we recalculated the weighted-average dumping margin for Himalya. The final weighted-average dumping margin for Himalya is listed below in the “Final Results of Review” section of this notice.

DATES: Effective September 8, 2016.

FOR FURTHER INFORMATION CONTACT: Kate Johnson or Terre Keaton Stefanova, AD/CVD Operations, Office II, Enforcement and Compliance, International Trade Administration, U.S. Department of Commerce, 14th Street and Constitution Avenue NW., Washington, DC 20230; telephone (202) 482-4929 or (202) 482-1280, respectively.

SUPPLEMENTARY INFORMATION:

Background

On March 9, 2016, the Department published the Preliminary Results.¹ On June 15, 2016, the Department postponed the final results by 60 days.² We invited parties to comment on the preliminary results of the review and we received a case brief from Himalya on June 21, 2016.³ The Department conducted this administrative review in accordance with section 751 of the Tariff Act of 1930, as amended (the Act).

¹ See Certain Preserved Mushrooms from India: Preliminary Results of Antidumping Duty Administrative Review; 2014-2015, 81 FR 12463 (March 9, 2016) (Preliminary Results), and accompanying Decision Memorandum entitled “Decision Memorandum for Preliminary Results of Antidumping Duty Administrative Review: Certain Preserved Mushrooms from India; 2014-2015” (Preliminary Decision Memorandum).

² See the June 15, 2016, memorandum entitled “Certain Preserved Mushrooms from India: Extension of Deadline for Final Results of Antidumping Duty Administrative Review.”

³ The petitioner, Monterey Mushrooms Inc., did not file a case or rebuttal brief.

Scope of the Order

The merchandise covered by this order is certain preserved mushrooms from India. The product is currently classified under subheadings: 2003.10.0127, 2003.10.0131, 2003.10.0137, 2003.10.0143, 2003.10.0147, 2003.10.0153, 0711.51.0000, 0711.90.4000, 2003.10.0027, 2003.10.0031, 2003.10.0037, 2003.10.0043 and 2003.10.0047 of the Harmonized Tariff System of the United States (HTSUS). Although the HTSUS subheadings are provided for convenience and customs purposes, the written description of merchandise subject to the scope is dispositive.⁴

⁴ A full description of the scope of the order is contained in the memorandum entitled “Issues and Decision Memorandum for the Final Results of the 2014-2015 Antidumping Duty Administrative Review of Certain Preserved Mushrooms from India” (Issues and Decision Memorandum), dated concurrently with these results and hereby adopted by this notice.

Period of Review

The period of review (POR) is February 1, 2014, through January 31, 2015.

Analysis of Comments Received

All issues raised in the case and rebuttal briefs are addressed in the Issues and Decision Memorandum. A list of the issues which parties raised and to which we respond in the Issues and Decision Memorandum is attached to this notice as Appendix I. The Issues and Decision Memorandum is a public document and is on file electronically via Enforcement and Compliance's AD and Countervailing Duty (CVD) Centralized Electronic Service System (ACCESS). ACCESS is available to registered users at http://access.trade.gov and in the Central Records Unit, Room B8024 of the main Department of Commerce building. In addition, a complete version of the Issues and Decision Memorandum can be accessed directly at http://enforcement.trade.gov/frn/index.html. The signed Issues and Decision Memorandum and the electronic version of the Issues and Decision Memorandum are identical in content.

Verification

As provided in section 782(i) of the Act, from April 4 through 8, 2016, we verified the sales and cost information submitted by Himalya for use in our final results. We used standard verification procedures, including an examination of relevant accounting and production records, and original source documents provided by Himalya.⁵

⁵ See Memorandum to the File entitled “Verification of the Sales and Cost Responses of Himalya International Limited in the Antidumping Duty Administrative Review of Certain Preserved Mushrooms from India,” dated June 9, 2016.

Final Results of the Review

Based on our analysis of the comments received and our findings at verification, we made certain changes to the margin calculations for Himalya. For a discussion of these changes, see the “Margin Calculations” section of the Issues and Decision Memorandum.

As a result of this review, the Department determines that a weighted-average dumping margin of 6.61 percent exists for Himalya for the period February 1, 2014, through January 31, 2015.

Disclosure

We will disclose the calculations used in our analysis to parties to this proceeding within five days of the date of publication of this notice, pursuant to 19 CFR 351.224(b).

Assessment Rates

The Department determines, and U.S. Customs and Border Protection (CBP) shall assess, antidumping duties on all appropriate entries covered by this review.⁶ We calculated importer-or customer-specific per-unit duty assessment rates by aggregating the total amount of antidumping duties calculated for the examined sales and dividing this amount by the total quantity of those sales. We will instruct CBP to assess antidumping duties on all appropriate entries covered by this review if the importer-specific assessment rate is above de minimis.

⁶ See 19 CFR 351.212(b)(1).

We intend to issue instructions to CBP 15 days after the date of publication of the final results of this review.

Cash Deposit Requirements

The following cash deposit requirements will be effective for all shipments of the subject merchandise entered, or withdrawn from warehouse, for consumption on or after the publication date of the final results of this administrative review, as provided by section 751(a)(2)(C) of the Act: (1) The cash deposit rate for the company listed above will be that established in the final results of this review, except if the rate is less than 0.50 percent and, therefore, de minimis within the meaning of 19 CFR 351.106(c)(1), in which case the cash deposit rate will be zero; (2) for previously reviewed or investigated companies not participating in this review, the cash deposit rate will continue to be the company-specific rate published for the most recent period; (3) if the exporter is not a firm covered in this review, a previous review, or the original less-than-fair-value (LTFV) investigation, but the manufacturer is, the cash deposit rate will be the rate established for the most recent period for the manufacturer of the merchandise; and (4) the cash deposit rate for all other manufacturers or exporters will continue to be 11.30 percent, the all-others rate made effective by the LTFV investigation.⁷ These deposit requirements shall remain in effect until further notice.

⁷ See Notice of Amendment of Final Determination of Sales at Less Than Fair Value and Antidumping Duty Order: Certain Preserved Mushrooms From India, 64 FR 8311 (February 19, 1999).

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and notice are published in accordance with sections 751(a)(1) and 777(i)(1) of the Act and 19 CFR 351.221.

Dated: August 31, 2016.
Paul Piquado,
Assistant Secretary for Enforcement and Compliance.

Appendix I

List of Topics Discussed in the Issues and Decision Memorandum

I. Summary

II. Background

III. Scope of the Order

IV. Margin Calculations

V. Discussion of the Issues

1. Allocation of Costs on a Fresh Mushroom Equivalent Basis

2. Adjustment to Ocean Freight Expense

3. Exclusion of U.S. Sales of Non-Prime Merchandise From Margin Calculations

VI. Recommendation

[FR Doc. 2016-21634 Filed 9-7-16; 8:45 am]

BILLING CODE 3510-DS-P